DEPARTMENT OF HEALTH AND HUMAN SERVICES

Centers for Disease Control and Prevention

[30Day-23-0822]

Agency Forms Undergoing Paperwork Reduction Act Review

In accordance with the Paperwork Reduction Act of 1995, the Centers for Disease Control and Prevention (CDC) has submitted the information collection request titled “The National Intimate Partner and Sexual Violence Survey (NISVS)” to the Office of Management and Budget (OMB) for review and approval. CDC previously published a “Proposed Data Collection Submitted for Public Comment and Recommendations” notice on March 7, 2022, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The National Intimate Partner and Sexual Violence Survey (NISVS) (OMB Control No. 0920-0822, Exp. 03/31/2023)—Revision—National Center for Injury Prevention and Control (NCIPC), Centers for Disease Control and Prevention (CDC).

Background and Brief Description

This is a revision request for the currently approved National Intimate Partner and Sexual Violence Survey (NISVS, OMB# 0920-0822). Sexual violence, intimate partner violence, and stalking are significant public health issues that impact the health and well-being of women and men across the United States. An extensive field of research has demonstrated that sexual violence, intimate partner violence, and stalking can have serious long-term health consequences and significant social and public health costs. Sexual violence is a major public health problem; 1 in 3 women and 1 in 4 men experienced sexual violence involving physical contact during their lifetimes. Nearly 1 in 5 women and 1 in 38 men have experienced completed or attempted rape. Sexual violence starts early; 1 in 3 female and 1 in 4 male rape victims experienced it for the first time between 11-17 years old.

In 2010, the National Intimate Partner and Sexual Violence Surveillance System (NISVS) reported that approximately 6.9 million women and 5.6 million men experienced rape, physical violence and/or stalking by an intimate partner within the last year. The health care costs of sexual violence exceed $5.8 billion each year, nearly $3.9 billion of which is for direct medical and mental health care services. To address this important public health problem, CDC implemented, beginning in 2010, the National Intimate Partner and Sexual Violence Surveillance System that produces national and state level estimates of Intimate Partner Violence, Sexual Violence and stalking on an annual basis.

This Revision request describes the redesign of the NISVS and the approach for collecting NISVS data. More specifically, this Revision request is to use the restructured methodology based on recommendations resulting from experimental studies conducted in 2018-2021 and approved by OMB 6/19/2019, 3/20/2020, and 9/2/2021. This Revision request incorporates methodological design changes to improve response rate, reduce cost, and reduce non-response bias. Additionally, survey questions and their formatting were revised to improve clarity and reduce respondent burden or to update content with more recent concerns (e.g., stalking technology, technology-facilitated sexual violence). The survey question revisions were modified by results from cognitive testing conducted in 2021-2022. Data are analyzed using appropriate statistical software to account for the complexity of the survey design to compute weighted counts, percentages, and confidence intervals using national and state-level data.

NISVS is a surveillance system used to monitor the magnitude of sexual violence, stalking, and Intimate Partner Violence victimization among adults in the U.S. Data are used by the federal government, states, partner organizations, and stakeholders to inform prevention programs and policies related to sexual violence, stalking, and Intimate Partner Violence. OMB approval is requested for three years. The total estimated annualized burden hours are 17,949. There are no costs to respondents other than their time to participate.

Estimated Annualized Burden Hours
Type of respondent | Form name | Number of respondents | Number of responses per respondent | Average burden per response (in hours)
Individuals and Households | Advance Letter | 134,933 | 1 | 1/60
| Screener | 48,667 | 1 | 5/60
| Questionnaire, web | 26,667 | 1 | 25/60
| Questionnaire, phone | 800 | 1 | 40/60

Jeffrey M. Zirger,
Lead, Information Collection Review Office, Office of Scientific Integrity, Office of Science, Centers for Disease Control and Prevention.

[FR Doc. 2023-01167 Filed 1-20-23; 8:45 am]

BILLING CODE 4163-18-P